DEPARTMENT OF HOMELAND SECURITY

Coast Guard

33 CFR Part 100

[Docket No. USCG-2018-0013]

Special Local Regulation; Black Warrior River, Tuscaloosa, AL

AGENCY: Coast Guard, DHS.

ACTION: Notice of enforcement of regulation.

SUMMARY: The Coast Guard will enforce a special local regulation on the Black Warrior River extending the entire width of the channel from mile marker 339.0 to mile marker 341.5 in Tuscaloosa, AL on March 24, 2018, to provide for the safety of life on navigable waterways during the Rowing Competition marine event. Our regulation for Recurring Marine Events in Captain of the Port Sector Mobile Zone identifies the regulated area for this rowing event. During the enforcement period, no vessel may transit this regulated area without approval from the Captain of the Port Sector Mobile or a designated representative.

DATES: The regulation in 33 CFR 100.801, Table 7, line 4, will be enforced from 6 a.m. through 4:30 p.m. on March 24, 2018.

FOR FURTHER INFORMATION CONTACT: If you have questions about this notice of enforcement, call or email call or email LT Kyle D. Berry, Sector Mobile, Waterways Management Division, U.S. Coast Guard; telephone 251-441-5940, email Kyle.D.Berry@uscg.mil.

SUPPLEMENTARY INFORMATION: The Coast Guard will enforce a special local regulation for the annual “Rowing Competition/University of South Alabama”, listed in 33 CFR 100.801, Table 7, line 4, from 6 a.m. through 4:30 p.m. on March 24, 2018. This action is being taken to provide for the safety of life on navigable waterways during the rowing event. Our regulation for Recurring Marine Events in Captain of the Port Sector Mobile Zone, § 100.801, specifies the location of the regulated area for this 2-and-½-mile-long rowing event. As specified in § 100.801 during the enforcement period, no vessel may transit this regulated area without approval from the Captain of the Port Sector Mobile (COTP) or a COTP designated representative.

This notice of enforcement is issued under authority of 33 CFR 100.801 and 5 U.S.C. 552(a). In addition to this notice of enforcement in the Federal Register, the Coast Guard plans to provide notification of this enforcement period via the Local Notice to Mariners and Broadcast Notice to Mariners.

Dated: January 31, 2018.
M.R. Mclellan,
Captain, U. S. Coast Guard, Captain of the Port Sector Mobile.

[FR Doc. 2018-02425 Filed 2-6-18; 8:45 am]

BILLING CODE 9110-04-P